DEPARTMENT OF HEALTH AND HUMAN SERVICES

National Institutes of Health

National Cancer Institute; Amended Notice of Meeting

Notice is hereby given of a change in the meeting of the National Cancer Advisory Board, December 09, 2013, 04:00 p.m. to December 10, 2013, 05:00 p.m., National Institutes of Health, Building 31, 31 Center Drive, Bethesda, MD, 20892 which was published in the Federal Register on November 25, 2013, 78 FR 70312.

The meeting notice is amended to change the time of the Subcommittee meeting on Planning & Budget on December 9, 2013 from 7:45 p.m. to 9:15 p.m. The Subcommittee meeting was originally scheduled to be held from 4:00 p.m. to 5:30 p.m. The Subcommittee meeting is open to the public. This notice is being published less than 15 days prior to the meeting due to scheduling constraints.

Dated: December 3, 2013.
Melanie J. Gray,
Program Analyst, Office of Federal Advisory Committee Policy.

[FR Doc. 2013-29286 Filed 12-6-13; 8:45 am]

BILLING CODE 4140-01-P